DEPARTMENT OF HEALTH AND HUMAN SERVICES

National Institutes of Health

Office of the Director, National Institutes of Health; Notice of Meeting

Pursuant to section 10(a) of the Federal Advisory Committee Act, as amended (5 U.S.C. App.), notice is hereby given of a meeting of the Scientific Management Review Board.

The NIH Reform Act of 2006 (Pub. L. 109-482) provides organizational authorities to HHS and NIH officials to: (1) Establish or abolish national research institutes; (2) reorganize the offices within the Office of the Director, NIH, including adding, removing, or transferring the functions of such offices or establishing or terminating such offices; and (3) reorganize, divisions, centers, or other administrative units within an NIH national research institute or national center including adding, removing, or transferring the functions of such units, or establishing or terminating such units. The purpose of the Scientific Management Review Board (also referred to as SMRB or Board) is to advise appropriate HHS and NIH officials on the use of these organizational authorities and identify the reasons underlying the recommendations.

The meeting will be open to the public, with attendance limited to space available. Individuals who plan to attend and need special assistance, such as sign language interpretation or other reasonable accommodations, should notify the Contact Person listed below in advance of the meeting.

Name of Committee: Scientific Management Review Board.

Date: April 27-28, 2009.

Open: April 27, 2009, 8:30 a.m. to 5:30 p.m.

Agenda: Presentation and discussion will include an overview of NIH mission, structure, budget, perspectives on how science has shaped the NIH organization, and future directions. There will also be time allotted on the agenda for public comment. Sign up for public comment will begin at approximately 8 a.m. on both April 27 and 28. In the event that time does not allow for all those interested to present oral comments, anyone may file written comments using the address below.

Place: National Institutes of Health, Building 31, 6th Floor, Conference Room 6, 31 Center Drive, Bethesda, MD 20892.

Open: April 28, 2009, 8:30 a.m. to 3:30 p.m.

Agenda: Continuation of April 27th meeting.

Place: National Institutes of Health, Building 31, 6th Floor, Conference Room 6, 31 Center Drive, Bethesda, MD 20892.

Contact Person: Dr. Lyric Jorgenson, PhD, NIH-AAAS Science and Technology Policy Fellow, Office of Science Policy, Office of the Director, NIH, National Institutes of Health, Building 1 Room 218 MSC 0166, 9000 Rockville Pike, Bethesda, MD 20892. smrb@mail.nih.gov. (301) 496-6837.

Any interested person may file written comments with the committee by forwarding the statement to the Contact Person listed on this notice. The statement should include the name, address, telephone number and when applicable, the business or professional affiliation of the interested person.

The meeting will also be Web cast. The draft meeting agenda and other information about the SMRB, including information about access to the Web cast, will be available at http://smrb.od.nih.gov.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Dated: March 25, 2009.
Jennifer Spaeth,
Director, Office of Federal Advisory Committee Policy.

[FR Doc. E9-7200 Filed 3-30-09; 8:45 am]

BILLING CODE 4140-01-P